DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of three individuals and two entities whose property and interests in property are blocked pursuant to Executive Order (E.O.) 13224 and whose names have been added to OFAC's list of Specially Designated Nationals and Blocked Persons (SDN List).

DATES: OFAC's actions described in this notice were effective September 30, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On September 30, 2014, OFAC blocked the property and interests in property of the following three individuals and two entities pursuant to E.O. 13224, “Blocking Property and Prohibiting Transactions With Persons Who Commit, Threaten To Commit, or Support Terrorism”:

Individuals

1. SHEIKH, Muhammad Naeem (a.k.a. NAEEM, Muhammad; a.k.a. SHEIKH, Mohammad Nayeem; a.k.a. “NAEEM, Sheikh”; a.k.a. “NAIM, Shaikh”), 122 Ahmed Block, New Garden Town, Lahore, Pakistan; 111-C Multan Road, Lahore, Pakistan; 2-Chamberlain Road, Lahore, Pakistan; DOB 04 Sep 1950; POB Lahore, Pakistan; nationality Pakistan; Passport BP5191731 (Pakistan) expires 12 May 2012; National ID No. 35202-1963173-9 (Pakistan); Engineer (individual) [SDGT] (Linked To: LASHKAR E-TAYYIBA).

2. SHEIKH, Umair Naeem (a.k.a. NAEEM, Umair), 112 Ahmed Block, New Garden Town, Lahore, Pakistan; DOB 19 Sep 1980; POB Lahore, Pakistan; citizen Pakistan; Passport AQ5192272 (Pakistan) expires 28 Jul 2012; National ID No. 35202-7366227-7 (Pakistan); [SDGT] (Linked To: LASHKAR E-TAYYIBA; Linked To: ABDUL HAMEED SHAHAB-UD-DIN).

3. KHALIL, Fazl-ur Rehman (a.k.a. KHALIL, Faisal Rahman; a.k.a. KHALIL, Fazl ur-Rahman; a.k.a. KHALIL, Fazlur Rehman), Kheyaban Sir Sayed, Street Two, Sector B27, Rawalpindi, Pakistan; Shams Colony, Islamabad, Pakistan; DOB 1963; POB Pakistan; Passport CR9158341 (Pakistan); National ID No. 6110104398349 (Pakistan); alt. National ID No. 14963091647 (Pakistan); Maulana; Moulana; Qari (individual) [SDGT] (Linked To: HARAKAT UL-MUJAHIDEEN).

Entities

1. ABDUL HAMEED SHAHAB-UD-DIN (a.k.a. ABDUL HAMEED SHAHABUDDAIN; a.k.a. ABDUL HAMEED SHAHABUDDIN; a.k.a. ABDUL HAMEED SHAHAB-U-DIN), 2-Chamberlain Road, Lahore, Pakistan; 2-Chamberlain Road 54000, Pakistan [SDGT] (Linked To: SHEIKH, Muhammad Naeem).

2. NIA INTERNATIONAL, 69 Circular Road, Lahore, Pakistan [SDGT] (Linked To: SHEIKH, Umair Naeem).

Dated: September 30, 2014.
John E. Smith,
Acting Director, Office of Foreign Assets Control.

[FR Doc. 2014-24065 Filed 10-8-14; 8:45 am]

BILLING CODE 4810-AL-P